DEPARTMENT OF THE TREASURY

Internal Revenue Service

26 CFR Part 1

[TD 9508]

RIN 1545-BJ85

Source of Income From Qualified Fails Charges; Correction

AGENCY: Internal Revenue Service (IRS), Treasury.

ACTION: Correcting amendment.

SUMMARY: This document contains a correction to temporary regulations (TD 9508) that were published in the Federal Register on Wednesday, December 8, 2010 (75 FR 76262)providing guidance about the treatment of fails charges for purposes of sections 871 and 881, which generally require gross-basis taxation of foreign persons not otherwise subject to U.S. net-basis taxation and the withholding of such tax under sections 1441 and 1442.

DATES: This correction is effective on December 28, 2010, and is applicable beginning December 8, 2010.

FOR FURTHER INFORMATION CONTACT: Sheila Ramaswamy or Anthony J. Marra at (202) 622-3870 (not a toll-free number).

SUPPLEMENTARY INFORMATION:

Background

The temporary regulations (TD 9508) that are the subject of this document are under section 863 of the Internal Revenue Code.

Need for Correction

As published, the temporary regulations (TD 9508) contain an error that may prove to be misleading and is in need of clarification.

List of Subject in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.863-10T is amended by revising the paragraph (f) to read as follows:

§ 1.863-10T Source of income from a qualified fails charge (temporary).

* * * * *

(f) Expiration date. This section expires on December 6, 2013.

Guy R. Traynor,
Acting Chief, Publications and Regulations Branch, Legal Processing Division, Associate Chief Counsel, Procedure and Administration.

[FR Doc. 2010-32536 Filed 12-27-10; 8:45 am]

BILLING CODE 4830-01-P